FEDERAL COMMUNICATIONS COMMISSION

47 CFR Part 25

Application for Special Temporary Authorization; Correction

AGENCY: Federal Communications Commission.

ACTION: Correcting amendment.

SUMMARY: This document contains a correction to the final regulations redesignated and amended at 62 FR 5928, 5929, February 10, 1997. The regulations related to applications for special temporary authorizations contained in § 25.120(a).

EFFECTIVE DATE: February 13, 2001.

FOR FURTHER INFORMATION CONTACT: Terry D. Johnson, (202) 418-0445 (not a toll-free call).

SUPPLEMENTARY INFORMATION:

Background

The final regulations that are the subject of this correction prescribed the procedures one must follow to apply for special temporary authorization to install and/or operate new or modified equipment for earth stations.

Need for Correction

As published, § 25.120(a) contains an incomplete mailing address which could delay receipt and processing of requests for special temporary authorizations.

List of Subjects in 47 CFR Part 25

Administrative practice and procedure, Communications common carriers, Radio, Telecommunications, Television.

PART 25—SATELLITE COMMUNICATIONS

Accordingly, 47 CFR part 25 is corrected by making the following correcting amendment:

1. The authority citation for part 25 continues to read as follows:

Authority: 47 U.S.C. 151, 154(i), 154(j), 155, 225, 303(r), 309 and 325(e).

§ 25.120 Application for special temporary authorization. [Corrected]

2. In § 25.120 revise the last sentence in paragraph (a) to read as follows:

(a) * * * A copy of the request for special temporary authority also shall be forwarded to the Commission's Columbia Operations Center, 9200 Farm House Lane, Columbia, MD 21046-1609.

* * * * *

Federal Communications Commission.
Magalie Roman Salas,
Secretary.

[FR Doc. 01-3636 Filed 2-12-01; 8:45 am]

BILLING CODE 6712-01-U